DEPARTMENT OF HEALTH AND HUMAN SERVICES

Centers for Medicare & Medicaid Services

[CMS-1555-CN]

RIN 0938-AP20

Medicare Program; Home Health Prospective Payment System Rate Update for Calendar Year 2009; Corrections

AGENCY: Centers for Medicare & Medicaid Services (CMS), HHS.

ACTION: Correction notice.

SUMMARY: This document corrects technical errors that appeared in the update notice published in the Federal Register on November 3, 2008, entitled “Medicare Program; Home Health Prospective Payment System Rate Update for Calendar Year 2009.”

DATES: Effective Date: This correction is effective on January 1, 2009.

FOR FURTHER INFORMATION CONTACT: Sharon Ventura, (410) 786-1985.

SUPPLEMENTARY INFORMATION:

I. Background

In FR Doc. E8-26142 of November 3, 2008 (73 FR 65351), the notice entitled “Medicare Program; Home Health Prospective Payment System Rate Update for Calendar Year 2009” there were several technical errors that this correction notice serves to identify and correct. The corrections are effective January 1, 2009.

II. Summary of Errors

On pages 65365 through 65382, Addendum B, we are correcting several CBSA names and constituent county references.

III. Correction of Errors

In FR Doc. E8-26142 of November 3, 2008 (73 FR 65351), make the following corrections:

1. On page 65365, in the second column, add “Manatee County, FL” under “Bradenton-Sarasota-Venice, FL”. Then insert “Sarasota, FL” under “Manatee County, FL”.

2. On page 65366, in the second column, “Charleston-North Charleston, SC” is corrected to read “Charleston-North Charleston-Summerville, SC”.

3. On page 65368, in the second column, “Des Moines, IA” is corrected to read “Des Moines-West Des Moines, IA”.

4. On page 65368, in the second column, “Edison, NJ” is corrected to read “Edison-New Brunswick, NJ”.

5. On page 65370, in the second column, “Greenville, SC” is corrected to read “Greenville-Mauldin-Easley, SC”.

6. On page 65370, in the second column, remove “Litchfield County, CT”.

7. On page 65371, in the second column, “Houston-Baytown-Sugar Land, TX” is corrected to read “Houston-Sugar Land-Baytown, TX”.

8. On page 65371, in the second column, “Indianapolis, IN” is corrected to read “Indianapolis-Carmel, IN”.

9. On page 65372, in the second column, “Kennewick-Richland-Pasco, WA” is corrected to read “Kennewick-Pasco-Richland, WA”.

10. On page 65373, in the second column, add “Mohave County, AZ” under “Lake Havasu City-Kingman, AZ”.

11. On page 65373, in the second column, “Lakeland, FL” is corrected to read “Lakeland-Winter Haven, FL”.

12. On page 65373, in the second column, “Little Rock-North Little Rock, AR” is corrected to read “Little Rock-North Little Rock-Conway, AR”.

13. On page 65373, in the second column, “Louisville, KY-IN” is corrected to read “Louisville-Jefferson County, KY-IN”.

14. On page 65374, in the second column, under Manchester-Nashua, NH” remove “Merrimack County, NH”.

15. On page 65374, in the second column, “McAllen-Edinburg-Pharr, TX” is corrected to read “McAllen-Edinburg-Mission, TX”.

16. On page 65375, in the second column, “Myrtle Beach-Conway-North Myrtle Beach, SC” is corrected to read “Myrtle Beach-North Myrtle Beach-Conway, SC”.

17. On page 65375, in the second column, “Nashville-Davidson-Murfreesboro, TN” is corrected to read “Nashville-Davidson-Murfreesboro-Franklin, TN”.

18. On page 65376, in the second column, “Orlando, FL” is corrected to read “Orlando-Kissimmee, FL”.

19. On page 65377, in the second column, “Port St. Lucie-Fort Pierce, FL” is corrected to read “Port St. Lucie, FL”.

20. On page 65380, in the second column, add “Indian River County, FL” under “Sebastian-Vero Beach, FL”.

21. On page 65382, “Warren-Farmington Hills-Troy, MI” is corrected to read “Warren-Troy-Farmington Hills, MI”.

IV. Waiver of Proposed Rulemaking and Delay in Effective Date

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued. Therefore, we are waiving proposed rulemaking and the 30-day delayed effective date for the technical corrections in this notice. This correction notice merely corrects technical errors in Addendum B of the Medicare Program; Home Health Prospective Payment System Rate Update for Calendar Year 2009 and does not make substantive changes to the policies or payment methodologies that were adopted in the final rule. Therefore, we do not believe this correction notice is a substantive rule that would be subject to notice and comment rulemaking or a delay in effective date; but rather, merely reflects policies or payment methodologies that were already subject to notice and comment rulemaking and were previously adopted by us. As a result, this notice is intended to ensure that the CY 2009 HHPPS Update Notice accurately reflects the policies adopted after public comment. Therefore, we find that undertaking further notice and comment procedures to incorporate these corrections into the update notice or delaying the effective date of these changes is unnecessary and contrary to the public interest.

(Catalog of Federal Domestic Assistance Program No. 93.773, Medicare—Hospital Insurance; and Program No. 93.774, Medicare—Supplementary Medical Insurance Program)

Dated: December 16, 2008.
Ann C. Agnew,
Executive Secretary to the Department.

[FR Doc. E8-30453 Filed 12-19-08; 8:45 am]

BILLING CODE 4120-01-P